DEPARTMENT OF JUSTICE

Membership of the Senior Executive Service and Senior Level Standing Performance Review Boards

AGENCY: Department of Justice.

ACTION: Notice of Department of Justice's standing members of the Senior Executive Service and Senior Level Performance Review Boards.

SUMMARY: Pursuant to the requirements of 5 U.S.C. 4314(c)(4), the Department of Justice announces the membership of its 2018 Senior Executive Service (SES) and Senior Level (SL) Standing Performance Review Boards (PRBs). The purpose of a PRB is to provide fair and impartial review of SES/SL performance appraisals, executive development plans, bonus recommendations and pay adjustments.

The PRBs will make recommendations regarding the final performance ratings to be assigned, SES/SL bonuses and/or pay adjustments to be awarded.

FOR FURTHER INFORMATION CONTACT: Mary A. Lamary, Director, Human Resources, Justice Management Division, Department of Justice, Washington, DC 20530; (202) 514-4350.

Lee J. Lofthus,
Assistant Attorney General for Administration.

2018 Federal Register
Name | Position title
Office of the Attorney General—OAG
HAMILTON, GENE | COUNSELOR TO THE ATTORNEY GENERAL.
WHITAKER, MATTHEW | CHIEF OF STAFF AND COUNSELOR.
TUCKER, RACHEL | COUNSELOR TO THE ATTORNEY GENERAL.
BARNETT, GARY | COUNSELOR TO THE ATTORNEY GENERAL.
MORRISSEY, BRIAN | COUNSELOR TO THE ATTORNEY GENERAL.
CUTRONA, DANIELLE | SENIOR COUNSELOR.
Office of the Deputy Attorney General—ODAG
O'CALLAGHAN, EDWARD | PRINCIPAL ASSOCIATE DEPUTY ATTORNEY GENERAL.
GUAHAR, TASHINA | ASSOCIATE DEPUTY ATTORNEY GENERAL.
BAUGHMAN, MATTHEW | ASSOCIATE DEPUTY ATTORNEY GENERAL.
COOK, STEVE | ASSOCIATE DEPUTY ATTORNEY GENERAL/LAW ENFORCEMENT.
CONNOLLY, ROBERT | DIRECTOR, OFFICE OF SMALL AND DISADVANTAGED BUSINESS UTILIZATION.
GOLDSMITH, ANDREW | NATIONAL CRIMINAL DISCOVERY COORDINATOR.
MICHALIC, MARK | EMERGENCY PREPAREDNESS AND CRISIS RESPONSE COORDINATOR.
Office of the Associate Attorney General—OASG
PANUCCIO, JESSE | PRINCIPAL DEPUTY ASSOCIATE ATTORNEY GENERAL.
MCARTHUR, ERIC | DEPUTY ASSOCIATE ATTORNEY GENERAL.
COX, STEVE | DEPUTY ASSOCIATE ATTORNEY GENERAL.
BISSEX, RACHEL | CHIEF OF STAFF AND COUNSEL TO THE ASSOCIATE ATTORNEY GENERAL.
Office of the Solicitor General—OSG
WALL, JEFFREY | PRINCIPAL DEPUTY SOLICITOR GENERAL.
DREEBEN, MICHAEL R | DEPUTY SOLICITOR GENERAL.
KNEEDLER, EDWIN S | DEPUTY SOLICITOR GENERAL.
STEWART, MALCOLM L | DEPUTY SOLICITOR GENERAL.
Office of Privacy and Civil Liberties
WINN, PETER | DIRECTOR, OFFICE OF PRIVACY AND CIVIL LIBERTIES.
Antitrust Division—ATR
FINCH, ANDREW | PRINCIPAL DEPUTY ASSISTANT ATTORNEY GENERAL.
NIGRO, BERNARD | DEPUTY ASSISTANT ATTORNEY GENERAL.
MURRAY, MICHAEL F | DEPUTY ASSISTANT ATTORNEY GENERAL.
ARMINGTON, ELIZABETH J | CHIEF, ECONOMIC REGULATORY SECTION.
BRINK, PATRICIA A | DIRECTOR OF CIVIL ENFORCEMENT.
COHEN, SCOTT | EXECUTIVE OFFICER.
DRENNAN, RONALD | CHIEF, COMPETITION POLICY SECTION.
FAMILANT, NORMAN | CHIEF, ECONOMIC LITIGATION SECTION.
FOUNTAIN, DOROTHY | SENIOR COUNSEL AND DIRECTOR OF RISK MANAGEMENT.
GREER, TRACY | ATTORNEY ADVISOR.
CONRATH, CRAIG | DIRECTOR OF LITIGATION.
AUGUSTINE, RENE | SENIOR COUNSEL.
LIMARZI, KRISTEN | CHIEF, APPELLATE SECTION.
MUCCHETTI, PETER J | CHIEF, LITIGATION I SECTION.
MAJURE, WILLIAM ROBERT | DIRECTOR OF ECONOMICS.
MARTINO, JEFFREY | CHIEF, NEW YORK FIELD OFFICE.
PETRIZZI, MARIBETH | CHIEF, LITIGATION II SECTION.
POTTER, ROBERT A | CHIEF, LEGAL POLICY SECTION.
PRICE JR., MARVIN N | DIRECTOR OF CRIMINAL ENFORCEMENT.
SCHEELE, SCOTT A | CHIEF, TELECOMMUNICATIONS AND MEDIA ENFORCEMENT SECTION.
VONDRAK, FRANK | CHIEF, CHICAGO FIELD OFFICE.
WERDEN, GREGORY J | ECONOMIST ADVISOR.
O'NEILL, KATHLEEN S | CHIEF, TRANSPORTATION, ENERGY AND AGRICULTURE SECTION.
HOAG, AARON | CHIEF, NETWORKS AND TECHNOLOGY ENFORCEMENT SECTION.
KENDLER, OWEN | CHIEF, LITIGATION III SECTION.
MARSHALL, LYNDA | CHIEF, FOREIGN COMMERCE SECTION.
PATCHEN, ELIEKA | CHIEF, SAN FRANCISCO FIELD OFFICE.
Bureau of Alcohol, Tobacco, Firearms, and Explosives—ATF
BRANDON, THOMAS E | DEPUTY DIRECTOR.
LOMBARDO, REGINA | SUPERVISORY EXECUTIVE ASSISTANT TO THE DIRECTOR.
VIDOLI, MARINO | ASSISTANT DIRECTOR, FIELD OPERATIONS.
TEMPLE, WILLIAM | DEPUTY ASSISTANT DIRECTOR, OFFICE OF STRATEGIC INTELLIGENCE AND INFORMATION.
KUMOR, DANIEL | ASSISTANT DIRECTOR, OFFICE OF PROFESSIONAL RESPONSIBILITY AND SECURITY OPERATIONS.
FORCELLI, PETER | DEPUTY ASSISTANT DIRECTOR, FIELD OPERATIONS—EAST.
GERIDO, STEVIE | DEPUTY ASSISTANT DIRECTOR, FIELD OPERATIONS—CENTRAL.
CANINO, CARLOS | DEPUTY ASSISTANT DIRECTOR, FIELD OPERATIONS—WEST.
SWEETOW, SCOTT | SPECIAL AGENT IN CHARGE.
RICHARDSON, MARVIN G | ASSISTANT DIRECTOR, ENFORCEMENT PROGRAM SERVICES.
CZARNOPYS, GREGORY P | DEPUTY ASSISTANT DIRECTOR, FORENSIC SERVICES.
BEASLEY, ROGER | CHIEF INFORMATION OFFICER (CIO).
MCDERMOND, JAMES E | ASSISTANT DIRECTOR, OFFICE OF STRATEGIC INTELLIGENCE AND INFORMATION.
REID, DELANO | DEPUTY ASSISTANT DIRECTOR, OFFICE OF PROFESSIONAL RESPONSIBILITY AND SECURITY OPERATIONS.
MICHALIC, VIVIAN B | ASSISTANT DIRECTOR, MANAGEMENT.
FRANDE, FRANCIS | DEPUTY ASSISTANT DIRECTOR, MANAGEMENT AND CHIEF FINANCIAL OFFICER.
GRAHAM, ANDREW R | DEPUTY ASSISTANT DIRECTOR, INDUSTRY OPERATIONS.
GROSS, CHARLES R | CHIEF COUNSEL.
ROESSNER, JOEL | DEPUTY CHIEF COUNSEL.
EPSTEIN, ERIC | ATTORNEY ADVISOR.
MCDANIEL, MASON | SUPERVISORY SENIOR INFORMATION TECHNOLOGY OFFICER.
GILBERT, CURTIS | DEPUTY ASSISTANT DIRECTOR, ENFORCEMENT PROGRAM AND SERVICES.
VANDERPLOW, PAUL | CHIEF, SPECIAL OPERATIONS DIVISION.
BOARD JR., DANIEL | ASSISTANT DIRECTOR, OFFICE OF PUBLIC AND GOVERNMENTAL AFFAIRS.
BENNETT, MEGAN | DEPUTY ASSISTANT DIRECTOR, OFFICE OF PUBLIC AND GOVERNMENTAL AFFAIRS.
BRADY, KELLY | DEPUTY ASSISTANT DIRECTOR, HUMAN RESOURCES AND PROFESSIONAL DEVELOPMENT.
BOYKIN, LISA | DEPUTY ASSISTANT DIRECTOR, HUMAN RESOURCES AND PROFESSIONAL DEVELOPMENT (HUMAN RESOURCES).
CROKE, KENNETH | ASSISTANT DIRECTOR, HUMAN RESOURCES AND PROFESSIONAL DEVELOPMENT.
VIDOLI, MARINO | ASSISTANT DIRECTOR, FIELD OPERATIONS.
GOLD, VICTORIA | DEPUTY ASSISTANT DIRECTOR, IT/DEPUTY CIO.
UNDERWOOD, JOHN | SPECIAL AGENT IN CHARGE, NATIONAL CENTER FOR EXPLOSIVES TRAINING AND RESEARCH (NCETR).
PERALTA, ARTHUR | SPECIAL AGENT IN CHARGE, ATLANTA.
CEKADA, ROBERT | SPECIAL AGENT IN CHARGE, BALTIMORE.
LEADINGHAM, MICKEY | SPECIAL AGENT IN CHARGE, BOSTON.
DIXIE, WAYNE | SPECIAL AGENT IN CHARGE, CHARLOTTE.
NUNEZ, CELINEZ | SPECIAL AGENT IN CHARGE, CHICAGO.
VELINOR, TREVOR | SPECIAL AGENT IN CHARGE, COLUMBUS.
BOSHEK, JEFF | SPECIAL AGENT IN CHARGE, DALLAS.
LIVINGSTON, DEBRA | SPECIAL AGENT IN CHARGE, DENVER.
DEIR, JAMES | SPECIAL AGENT IN CHARGE, DETROIT.
MILANOWSKI, FREDERICK | SPECIAL AGENT IN CHARGE, HOUSTON.
LAUDER, GEORGE | SPECIAL AGENT IN CHARGE, KANSAS CITY.
MCMULLAN, WILLIAM | SPECIAL AGENT IN CHARGE, LOS ANGELES.
LOWREY, STUART | SPECIAL AGENT IN CHARGE, LOUISVILLE.
SHAPIRA, ARI | SPECIAL AGENT IN CHARGE, MIAMI.
WATSON, MARCUS | SPECIAL AGENT IN CHARGE, NASHVILLE.
NICHOLS, DANA | SPECIAL AGENT IN CHARGE, NEW ORLEANS.
BENEDICT, ASHAN MORINO | SPECIAL AGENT IN CHARGE, NEW YORK.
DEVITO, JOHN | SPECIAL AGENT IN CHARGE, NEWARK.
ROBINSON, DONALD | SPECIAL AGENT IN CHARGE, PHILADELPHIA.
DURASTANI, JOHN | SPECIAL AGENT IN CHARGE, PHOENIX.
PLEASANTS, DAREK | SPECIAL AGENT IN CHARGE, SEATTLE.
THIELHORN, KURT | SPECIAL AGENT IN CHARGE, ST PAUL.
MCCRARY, DARYL | SPECIAL AGENT IN CHARGE, TAMPA.
CHITTUM, THOMAS | SPECIAL AGENT IN CHARGE, WASHINGTON, DC.
Bureau of Prisons—BOP
GRIFFITH, L. CRISTINA | ASSISTANT DIRECTOR, HUMAN RESOURCES MANAGEMENT DIVISION.
SIMPSON, GARY M | CHIEF EXECUTIVE OFFICER/ASSISTANT DIRECTOR, FEDERAL PRISON INDUSTRIES.
YEICH, KENNETH | SENIOR DEPUTY ASSISTANT DIRECTOR, FEDERAL PRISON INDUSTRIES.
GROSS, BRADLEY T | ASSISTANT DIRECTOR, ADMINISTRATION DIVISION.
BURNS, LONERYL C | SENIOR DEPUTY ASSISTANT DIRECTOR, ADMINISTRATION DIVISION.
SCARANTINO, THOMAS J | SENIOR DEPUTY ASSISTANT DIRECTOR, CORRECTIONAL PROGRAMS DIVISION.
AYERS, NANCY | CHIEF, OFFICE OF PUBLIC AFFAIRS.
KIZZIAH, GREGORY | WARDEN, USP, BIG SAND, KY.
GARRETT, JUDITH | ASSISTANT DIRECTOR, INFORMATION, POLICY AND PUBLIC AFFAIRS DIVISION.
THOMPSON, SONYA | SENIOR DEPUTY ASSISTANT DIRECTOR, INFORMATION, POLICY/PUBLIC AFFAIRS DIVISION.
SCHULT, DEBORAH G | ASSISTANT DIRECTOR, HEALTH SERVICES DIVISION.
HYLE, KENNETH | ASSISTANT DIRECTOR, OFFICE OF GENERAL COUNSEL.
KENDALL, PAUL F | SENIOR COUNSEL, OFFICE OF GENERAL COUNSEL.
RODGERS, RONALD L | SENIOR COUNSEL, OFFICE OF GENERAL COUNSEL.
WILLS, JAMES C | SENIOR DEPUTY COUNSEL, OFFICE OF GENERAL COUNSEL.
BROWN JR., ROBERT M | SENIOR DEPUTY DIRECTOR, NATIONAL INSTITUTE OF CORRECTIONS.
HURWITZ, HUGH J | ASSISTANT DIRECTOR, RE-ENTRY SERVICES DIVISION.
DUNBAR, ANGELA P | REGIONAL DIRECTOR, MIDDLE ATLANTIC REGION.
QUINTANA, FRANCISCO J | WARDEN, FMC, LEXINGTON, KY.
BARNHART, JONATHAN | WARDEN FCI, MANCHESTER, KY.
ORMOND, JOHNATHAN R | WARDEN, USP, MCCREARY, KY.
STEWART, TIMOTHY S | WARDEN, FCI, CUMBERLAND, MD.
HOLLAND, JAMES C | COMPLEX WARDEN—FMC, FCC, BUTNER, NC.
LAYER, PAUL M. | SENIOR DEPUTY ASSISTANT DIRECTOR, PROGRAM REVIEW DIVISION.
RASKIN, MINA | SENIOR DEPUTY ASSISTANT DIRECTOR, PROGRAM REVIEW DIVISION.
FINLEY, SCOTT | SENIOR DEPUTY ASSISTANT DIRECTOR, RE-ENTRY SERVICES DIVISION.
SAAD, JENNIFER S | WARDEN, FCI, GILMER, WV.
YOUNG, DAVID L | WARDEN, FCI, BECKLEY, WV.
COAKLEY, JOSEPH D | WARDEN, USP, HAZELTON, WV.
REVELL, SARA M | REGIONAL DIRECTOR, NORTH CENTRAL REGION.
WERLICH, THOMAS | WARDEN, FCI, GREENVILLE, IL.
KALLIS, STEVEN | WARDEN, FCI, PEKIN, IL.
HUDSON JR., DONALD J | WARDEN, FCI, THOMSON, IL.
KRUEGER, JEFFREY | COMPLEX WARDEN—USP, FCC, TERRE HAUTE, IN.
ENGLISH, NICOLE | WARDEN, USP, LEAVENWORTH, KS.
PAUL, DAVID | WARDEN, FMC, ROCHESTER, MN.
SMITH, MICHAEL D | WARDEN USMCFP, SPRINGFIELD, MO.
CARVAJAL, MICHAEL D | REGIONAL DIRECTOR, NORTHEAST REGION.
VON BLANCHENSEE, BAR | WARDEN, FCI, OTISVILLE, NY.
YOUNG, WILLIAM S | WARDEN, FCI, FAIRTON, NJ.
ORTIZ, DAVID | WARDEN, FCI, FORT DIX, NJ.
QUAY, HERMAN | WARDEN, MDC, BROOKLYN, NY.
BALTAZAR JR., JUAN | WARDEN, USP, CANAAN, PA.
EBBERT, DAVID W | WARDEN USP, LEWISBURG, PA.
CARAWAY, JOHN | REGIONAL DIRECTOR, SOUTH CENTRAL REGION.
CHEATHAM, ROY | REGIONAL DIRECTOR SOUTHEAST REGION.
BEASLEY, GENE | COMPLEX WARDEN, FCC, FOREST CITY, AR.
FOX, JOHN B | WARDEN, FTC, OKLAHOMA CITY, OK.
UPTON, JODY R | WARDEN, FMC, CARSWELL, TX.
WILSON, ERIC D | WARDEN, FCI, FORT WORTH, TX.
LOCKETT, CHARLES L | WARDEN—USP, COLEMAN 1, COLEMAN, FL.
WITHERS, SHANNON | WARDEN, FCI, MARIANNA, FL.
RAMIREZ, GIOVANNI | WARDEN, FDC, MIAMI, FL.
HARMON, DARRIN | WARDEN, USP, ATLANTA, GA.
EDGE, DEREK | WARDEN, FCI, JESUP, GA.
MARTIN, MARK S | COMPLEX WARDEN, FCC, YAZOO CITY, MS.
BRAGG, M. TRAVIS | WARDEN, FCI, BENNETTSVILLE, SC.
MOSLEY, BONITA S | WARDEN, FCI, EDGEFIELD, SC.
ANTONELLI, BRYAN | WARDEN, FCI, WILLIAMSBURG, SC.
ADAN, ANGEL | WARDEN, MDC, GUAYNABO, PUERTO RICO.
MITCHELL, MARY M | REGIONAL DIRECTOR, WESTERN REGION.
LOTHROP, WILLIAMS | WARDEN, FCI, PHOENIX, AZ.
BALTAZAR JR., JUAN | COMPLEX WARDEN—USP, FCC, TUSCON, AZ.
MILUSNIC, LOUIS J | WARDEN, MDC, LOS ANGELES, CA.
SHINN, DAVID C | COMPLEX WARDEN, FCC, VICTORVILLE, CA.
LAKE, STEVEN T | WARDEN, USP, ATWATER, CA.
PLUMLEY, BRUCE | WARDEN, FCI, MENDOTA, CA.
SALAZAR, JOSIAS | WARDEN FCI, SHERIDAN, OR.
BRECKON, MICHAEL | CORRECTNL INST ADMR.
JOHNSON, CALVIN | COMPLEX WARDEN.
KELLER, JEFFREY A | CORRECTIONAL PROGRAM OFFICER.
KIERNAN, SHEILA F | CORRECTIONAL PROGRAM OFFICER.
MATEVOUSIAN, ANDRE | COMPLEX WARDEN.
N DIAYE, LAMINE | CORRECTNL INST ADMR.
PAUL, CHARLES D | CORRECTNL INST ADMR.
QUINTANA, FRANCISCO J | CORRECTNL INST ADMR.
ROMERO, BILLY | CORRECTNL INST ADMR.
STANCIL, MOSES A | CORRECTNL INST ADMR.
TRUE, WILLIAM PAGE | CORRECTNL INST ADMR.
Civil Division—CIV
READLER, CHAD | PRINCIPAL DEPUTY ASSISTANT ATTORNEY GENERAL.
YAVELBERG, JAMIE ANN | DEPUTY DIRECTOR, COMMERCIAL LITIGATION BRANCH.
MAO, ANDY | DEPUTY DIRECTOR, FRAUD SECTION.
FLENTJE, AUGUST | SPECIAL COUNSEL TO THE ASSISTANT ATTORNEY GENERAL.
LANGSAM, STEPANIE | INTERIM ADMINISTRATOR FOR FUNDS, OFFICE OF THE SPECIAL MASTER FOR THE SEPTEMBER 11 VICTIM COMPENSATION FUND.
GRIFFITHS, JOHN R | BRANCH DIRECTOR, FEDERAL PROGRAMS.
COPPOLINO, ANTHONY J | DEPUTY BRANCH DIRECTOR.
DAVIDSON, JEANNE E | DIRECTOR, OFFICE OF FOREIGN LITIGATION.
KIRSCHMAN JR., ROBERT E | DIRECTOR, COMMERCIAL LITIGATION BRANCH.
BENSON, BARRY F | DIRECTOR, AVIATION AND ADMIRALTY SECTION.
BHATTACHARYA, RUPA | SPECIAL MASTER FOR THE SEPTEMBER 11 VICTIM COMPENSATION FUND (DUAL).
REEVES, CATHERINE | DEPUTY DIRECTOR, TORTS/CSTL-VACCINE.
GLYNN, JOHN PATRICK | DIRECTOR, ENVIRONMENTAL TORT LITIGATION SECTION.
EMERSON, CATHERINE V | EXECUTIVE OFFICER.
PEACHEY, WILLIAM C | DIRECTOR, OFFICE OF IMMIGRATION LITIGATION, DISTRICT COURT.
WARD, THOMAS | DEPUTY ASSISTANT ATTORNEY GENERAL (TORTS).
GRANSTON, MICHAEL D | DEPUTY CIVIL FRAUD.
MANHARDT, KIRK | DEPUTY DIRECTOR, COMMERCIAL LITIGATION BRANCH.
DINTZER, KENNETH | DEPUTY DIRECTOR, NATIONAL COURTS.
YAVELBERG, JAMIE ANN | DEPUTY DIRECTOR, COMMERCIAL LITIGATION BRANCH.
HAUSKEN, GARY L | DEPUTY DIRECTOR, INTELLECTUAL PROPERTY.
BOLDEN, SCOTT | DEPUTY DIRECTOR, INTELLECTUAL PROPERTY.
STEGER, JEFFREY | SENIOR LEVEL TRIAL ATTORNEY, CONSUMER LITIGATION.
GOLDBERG, RICHARD | SENIOR LEVEL TRIAL ATTORNEY, CONSUMER LITIGATION.
SHAPIRO, ELIZABETH J | DEPUTY BRANCH DIRECTOR.
COLLETTE, MATTHEW | DEPUTY DIRECTOR, APPELLATE STAFF.
HOCKEY, MARTIN | DEPUTY DIRECTOR, NATIONAL COURTS COMMERCIAL LITIGATION BRANCH.
FREEMAN, MARK | DIRECTOR, APPELLATE STAFF.
RAAB, MICHAEL | APPELLATE LITIGATION COUNSEL.
STERN, MARK B | APPELLATE LITIGATION COUNSEL.
TOUHEY, JR., JAMES G | DIRECTOR, FEDERAL TORT CLAIMS ACT SECTION.
ANDERSON, DANIEL R | DEPUTY BRANCH DIRECTOR, CIVIL FRAUD.
EINERSON, ROGER | SENIOR LEVEL TRIAL ATTORNEY.
MOLINA, JR., ERNESTO | DEPUTY DIRECTOR, OFFICE OF IMMIGRATION LITIGATION, APPELLATE SECTION.
MOOPPAN, HASHIM M | DEPUTY ASSISTANT ATTORNEY GENERAL (APPELLATE).
MARTIN, DANA | DEPUTY DIRECTOR, APPELLATE BRANCH.
MCCONNELL, DAVID M | DIRECTOR, OFFICE OF IMMIGRATION LITIGATION, APPELLATE SECTION.
MCINTOSH, SCOTT R | APPELLATE COUNSEL, ADVANCED TECHNOLOGY.
BROWN, WALTER W | SENIOR LEVEL TRIAL ATTORNEY, INTELLECTUAL PROPERTY.
CARNEY, CHRISTOPHER | SENIOR TRIAL ATTORNEY, NAT COURTS/COMMERCIAL LITIGATION BRANCH.
O'MALLEY, BARBARA B | SPECIAL LITIGATION COUNSEL, AVIATION AND ADMIRALTY SECTION.
RICKETTS, JENNIFER D | BRANCH DIRECTOR.
FURMAN, JILL | DEPUTY DIRECTOR, CONSUMER PROTECTION BRANCH.
SCHUMATE, BRETT | DEPUTY ASSISTANT ATTORNEY GENERAL (FEDERAL PROGRAMS).
KISOR, COLIN | SENIOR TRIAL ATTORNEY, DISTRICT COURT.
FREEMAN, MARK | SENIOR LEVEL APELLATE COUNSEL.
KEENER, DONALD | SENIOR LEVEL TRIAL ATTORNEY, APPELLATE.
D'ALESSIO, JR., C.S | DEPUTY DIRECTOR, CSTL.
QUINN, MICHAEL J | SENIOR LEVEL TRIAL ATTORNEY (CORP-FINANCIAL).
GILLIGAN, JAMES J | SPECIAL LITIGATION COUNSEL.
HARVEY, RUTH A | DIRECTOR, COMMERCIAL LITIGATION BRANCH, CORPORATE AND FINANCIAL LITIGATION.
LATOUR, MICHELLE | DEPUTY DIRECTOR, OFFICE OF IMMIGRATION LITIGATION, APPELLATE SECTION.
LIN, JEAN | SENIOR LEVEL TRIAL ATTORNEY, COMPLEX LITIGATION.
KANTER, ETHAN B | SENIOR LEVEL TRIAL ATTORNEY, NATIONAL SECURITY.
STEWART, SCOTT G. | DEPUTY ASSISTANT ATTORNEY GENERAL (IMMIGRATION LITIGATION).
Civil Rights Division—CRT
GORE, JOHN | PRINCIPAL DEPUTY ASSISTANT ATTORNEY GENERAL..
MOOSSY, ROBERT J | DEPUTY ASSISTANT ATTORNEY GENERAL.
FITZGERALD, PAIGE | PRINCIPAL DEPUTY CHIEF, CRIMINAL SECTION.
KESSLER, TAMARA | CHIEF, FEDERAL COORDINATION AND COMPLIANCE SECTION.
SIMMONS, SHAHEENA | CHIEF, EDUCATIONAL OPPORTUNITIES SECTION.
FRIEL, GREGORY | DEPUTY ASSISTANT ATTORNEY GENERAL (APPELLATE, HOUSING & CIVIL ENFORCEMENT).
HOWE, SUSAN E | EXECUTIVE OFFICER.
TOOMEY, KATHLEEN | DIRECTOR OF OPERATIONAL MANAGEMENT.
GINSBURG, JESSICA A | COUNSEL TO THE ASSISTANT ATTORNEY GENERAL.
KENNEBREW, DELORA | CHIEF, EMPLOYMENT LITIGATION SECTION.
MAJEED, SAMEENA S | CHIEF, HOUSING AND CIVIL ENFORCEMENT SECTION.
SEWARD, JON | PRINCIPAL DEPUTY CHIEF, HOUSING AND CIVIL ENFORCEMENT SECTION.
HERREN JR., THOMAS C | CHIEF, VOTING SECTION.
WERTZ, REBECCA | PRINCIPAL DEPUTY CHIEF, VOTING SECTION.
BOND, REBECCA B | CHIEF, DISABILITY RIGHTS SECTION.
EMBREY, DIANA | CHIEF, EMPLOYMENT COUNSEL.
FORAN, SHEILA | SPECIAL LEGAL COUNSEL, DISABILITY RIGHTS SECTION.
BLUMBERG, MARK | SPECIAL LEGAL COUNSEL.
RUISANCHEZ, ALBERTO | DEPUTY SPECIAL COUNSEL FOR IMMIGRATION-RELATED UNFAIR EMPLOYMENT PRACTICES, OFFICE OF THE SPECIAL COUNSEL.
PRESTON, JUDITH L | PRINCIPAL DEPUTY CHIEF, SPECIAL LITIGATION SECTION.
RAISH, ANNE | PRINCIPAL DEPUTY CHIEF, DISABILITY RIGHTS SECTION.
WOODARD, KAREN | PRINCIPAL DEPUTY CHIEF, EMPLOYMENT LITIGATION SECTION.
ROSENBAUM, STEVEN H | CHIEF, SPECIAL LITIGATION SECTION.
THOMAS, LATHIKA MARY | SENIOR COUNSELOR.
LIVINGSTON, DONALD | DEPUTY ASSISTANT ATTORNEY GENERAL (DISABILITY RIGHTS).
Criminal Division—CRM
SWARTZ, BRUCE CARLTON | DEPUTY ASSISTANT ATTORNEY GENERAL (INTERNATIONAL AFFAIRS).
AINSWORTH, PETER J | SENIOR COUNSEL, OFFICE OF OVERSEAS PROSECUTORIAL DEVELOPMENT ASSISTANCE AND TRAINING.
CARROLL, OVIE | DIRECTOR, CYBERCRIME LABORATORY, COMPUTER CRIME AND INTELLECTUAL PROPERTY SECTION..
RYBICKI, DAVID | DEPUTY ASSISTANT ATTORNEY GENERAL (HUMAN RIGHTS, ORGANIZED CRIME & GANG).
ALEXANDRE, CARL | COUNSELOR FOR TRANSNATIONAL ORGANIZED CRIME & INTL AFFAIRS.
ARY, VAUGHN | DIRECTOR, OFFICE OF INTERNATIONAL AFFAIRS.
HO-GONZALES, WILLIAM | DEPUTY DIRECTOR, OFFICE OF INTERNATIONAL AFFAIRS.
TOLEDO, RANDY | DEPUTY DIRECTOR, OFFICE OF INTERNATIONAL AFFAIRS.
CONNOR, DEBORAH L | DEPUTY CHIEF, MONEY LAUNDERING AND ASSET RECOVERY SECTION.
HARBIN, HARRY | SENIOR LEGAL COUNSEL OF MONEY LAUNDERING AND ASSET RECOVERY SECTION.
CARWILE, P. KEVIN | CHIEF, CAPITAL CASE UNIT.
DOWNING, RICHARD W | DEPUTY CHIEF, COMPUTER CRIME AND INTELLECTUAL PROPERTY SECTION.
EHRENSTAMM, FAYE | DIRECTOR, OFFICE OF OVERSEAS PROSECUTORIAL DEVELOPMENT, ASSISTANCE/TRAINING.
GROCKI, STEVEN J | CHIEF, CHILD EXPLOITATION AND OBSCENITY SECTION.
HODGE, JENNIFER A.H | DEPUTY DIRECTOR, OFFICE OF ENFORCEMENT OPERATIONS.
HULSER, RAYMOND N | CHIEF, PUBLIC INTEGRITY SECTION.
JAFFE, DAVID | DEPUTY CHIEF, ORGANIZED CRIME AND GANG SECTION.
JONES, JOSEPH M | SENIOR COUNSEL FOR INTERNATIONAL DEVELOPMENT AND TRAINING.
KING, DAMON A | DEPUTY CHIEF, CHILD EXPLOITATION AND OBSCENITY SECTION.
LYNCH JR., JOHN T | CHIEF, COMPUTER CRIME, AND INTELLECTUAL PROPERTY SECTION.
MCHENRY, TERESA L | CHIEF, HUMAN RIGHTS AND SPECIAL PROSECUTIONS SECTION.
MELTON, TRACY | EXECUTIVE OFFICER.
RODRIGUEZ, MARY D | DEPUTY DIRECTOR, OFFICE OF INTERNATIONAL AFFAIRS.
ROSENBAUM, ELI M | DIRECTOR, HUMAN RIGHTS ENFORCEMENT STRATEGY AND POLICY.
STEMLER, PATTY MERKAMP | CHIEF, APPELLATE SECTION.
TIROL, ANNALOU | DEPUTY CHIEF, PUBLIC INTEGRITY SECTION.
WEISSMANN, ANDREW | CHIEF, FRAUD SECTION.
MOSER, SANDRA | DEPUTY CHIEF, FRAUD SETION.
WROBLEWSKI, JONATHAN J | DIRECTOR, OFFICE OF POLICY AND LEGISLATION.
WYATT, ARTHUR G | CHIEF, NARCOTIC AND DANGEROUS DRUG SECTION.
WYDERKO, JOSEPH | DEPUTY CHIEF, APPELLATE SECTION.
CRONAN, JOHN | PRINCIPAL DEPUTY ASSISTANT ATTORNEY GENERAL.
MINER, MATTHEW | DEPUTY ASSISTANT ATTORNEY GENERAL (FRAUD AND APPELLATE).
STIGLITZ, MATTHEW | DEPUTY DIRECTOR, HUMAN RIGHTS ENFORCEMENT STRATEGY AND POLICY.
OHR, BRUCE | SENIOR COUNSEL FOR INTERNATIONAL AFFAIRS.
HARRIS, KENNETH | SENIOR JUSTICE FOR THE EUROPEAN UNION AND INTERNATIONAL CRIMINAL MATTERS.
BRYDEN, ROBERT J. | DEPUTY DIRECTOR, OFFICE OF ENFORCEMENT OPERATIONS.
Environmental and Natural Resources Division—ENRD
WOOD, JEFF | PRINCIPAL DEPUTY ASSISTANT ATTORNEY GENERAL..
WILLIAMS, JEAN E | DEPUTY ASSISTANT ATTORNEY GENERAL (ENVIRONENTAL CRIMES AND WILDLIFE AND MARINE RESOURCES SECTIONS).
GELBER, BRUCE S | DEPUTY ASSISTANT ATTORNEY GENERAL.
ALEXANDER, S. CRAIG | CHIEF, INDIAN RESOURCES SECTION.
BARSKY, SETH | CHIEF, WILDLIFE AND MARINE RESOURCES.
COLLIER, ANDREW | EXECUTIVE OFFICER.
DOUGLAS, NATHANIEL | DEPUTY SECTION CHIEF, ENVIRONMENTAL ENFORCEMENT SECTION.
FERGUSON, CYNTHIA | SENIOR LITIGATOR, ENVIRONMENTAL JUSTICE.
GETTE, JAMES | DEPUTY CHIEF, NATURAL RESOURCES SECTION.
GOLDFRANK, ANDREW M | CHIEF, LAND ACQUISITION SECTION.
GRANT, ERIC | DEPUTY ASSISTANT ATTORNEY GENERAL.
GRISHAW, LETITIA J | CHIEF, ENVIRONMENTAL DEFENSE SECTION.
HARRIS, DEBORAH | CHIEF, ENVIRONMENTAL CRIMES SECTION.
HOANG, ANTHONY P | SENIOR LITIGATION COUNSEL, NATURAL RESOURCES.
KILBOURNE, JAMES C | CHIEF, APPELLATE SECTION.
MAHAN, ELLEN M | DEPUTY CHIEF, ENVIRONMENTAL ENFORCEMENT SECTION.
MARIANI, THOMAS | CHIEF, ENVIRONMENTAL ENFORCEMENT SECTION.
DWORKIN, KAREN | DEPUTY CHIEF, ENVIRONMENTAL ENFORCEMENT SECTION.
MERGEN, ANDREW | DEPUTY CHIEF, APPELLATE SECTION.
PASSARELLI, EDWARD | DEPUTY CHIEF, NATURAL RESOURCES SECTION.
POUX, JOSEPH | DEPUTY CHIEF, ENVIRONMENTAL CRIMES SECTION.
RUSSELL, LISA L. | CHIEF, NATURAL RESOURCES SECTION.
HIMMELCHOCH, SARAH | SENIOR ATTORNEY FOR E-DISCOVERY COORDINATOR.
BRIGHTBILL, JONATHAN | DEPUTY ASSISTANT ATTORNEY GENERAL.
SINGER, FRANK | SENIOR LITIGATION COUNSEL.
STEWART, HOWARD P | SENIOR LITIGATION COUNSEL.
TENENBAUM, ALAN S | SENIOR LITIGATION COUNSEL, ENVIORNMENTAL ENFORCEMENT.
VADEN, CHRISTOPHER S | DEPUTY CHIEF, ENVIRONMENTAL DEFENSE SECTION.
WARDZINSKI, KAREN M | CHIEF, LAW AND POLICY SECTION.
Executive Office for Immigration Review—EOIR
MCHENRY III, JAMES R | DIRECTOR.
REILLY, KATHERINE | DEPUTY DIRECTOR.
SANTORO, CHRISTOPHER | DEPUTY CHIEF IMMIGRATION JUDGE.
WARD, LISA | ASSISTANT DIRECTOR FOR ADMINISTRATION.
SO, EDWARD | CHIEF INFORMATION OFFICER.
ADKINS-BLANCH, CHARLES K | VICE CHAIRMAN, BOARD OF IMMIGRATION APPEALS.
CLARK, MOLLY K | ATTORNEY EXAMINER.
COLE, PATRICIA A | ATTORNEY EXAMINER.
CREPPY, MICHAEL | ATTORNEY EXAMINER.
MANN, ANA | ATTORNEY EXAMINER.
GRANT, EDWARD R | ATTORNEY EXAMINER.
GREER, ANNE J | ATTORNEY EXAMINER.
GUENDELSBERGER, JOHN W | ATTORNEY EXAMINER.
KELLER, MARY BETH | CHIEF IMMIGRATION JUDGE.
KING, JEAN | GENERAL COUNSEL.
LIEBOWITZ, ELLEN | ATTORNEY EXAMINER.
KELLY, EDWARD | ATTORNEY EXAMINER.
MALPHRUS, GARRY D | ATTORNEY EXAMINER.
MULLANE, HUGH G | ATTORNEY EXAMINER.
NEAL, DAVID | CHAIRMAN, BOARD OF IMMIGRATION APPEALS.
O'CONNOR, BLAIR | ATTORNEY EXAMINER.
PAULEY, ROGER ANDREW | ATTORNEY EXAMINER.
STUTMAN, ROBIN M | CHIEF ADMINISTRATIVE HEARING OFFICER.
WENDTLAND, LINDA S | ATTORNEY EXAMINER.
REID, LAUREN | ASSISTANT DIRECTOR FOR POLICY.
Executive Office for Organized Crime Drug Enforcement Task Forces—OCDETF
PADDEN, THOMAS W | DEPUTY DIRECTOR, OCDETF.
Executive Office for U.S. Attorneys—EOUSA
CROWELL, JAMES | DIRECTOR.
BELL, SUZANNE L | DEPUTY DIRECTOR.
PELLETIER, JONATHAN | CHIEF FINANCIAL OFFICER.
FLESHMAN, JAMES MARK | CHIEF INFORMATION OFFICER.
CHANDLER, CAMERON G | ASSOCIATE DIRECTOR, OFFICE OF LEGAL EDUCATION.
FLINN, SHAWN | CHIEF HUMAN RESOURCES OFFICER.
MACKLIN, JAMES | GENERAL COUNSEL.
SMITH, DAVID L | COUNSEL FOR LEGAL INITIATIVES.
WONG, NORMAN Y | DEPUTY DIRECTOR AND COUNSEL TO THE DIRECTOR.
Executive Office for U.S. Trustees—EOUST
WHITE III, CLIFFORD J | DIRECTOR.
ELLIOTT, RAMONA D | DEPUTY DIRECTOR, GENERAL COUNSEL.
Justice Management Division—JMD
LOFTHUS, LEE J | ASSISTANT ATTORNEY GENERAL FOR ADMINISTRATION..
ALLEN, MICHAEL H | DEPUTY ASSISTANT ATTORNEY GENERAL FOR POLICY, MANAGEMENT, AND PLANNING.
LAURIA, JOLENE A | DEPUTY ASSISTANT ATTORNEY GENERAL/CONTROLLER.
KLIMAVICZ, JOSEPH | DEPUTY ASSISTANT ATTORNEY GENERAL FOR INFORMATION RESOURCES MANAGEMENT AND CHIEF INFORMATION OFFICER.
WILKINSON, ROBERT M | SENIOR COUNSELOR.
LAMARY, MARY | DIRECTOR, HUMAN RESOURCES.
GARY, ARTHUR | GENERAL COUNSEL.
SHAW, CYNTHIA | DIRECTOR, DEPARTMENTAL ETHICS OFFICE.
SELWESKI, MARK L | DIRECTOR, PROCUREMENT SERVICES STAFF.
ALVAREZ, CHRISTOPHER C | DIRECTOR, FINANCE STAFF.
FRONE, JAMILA | DIRECTOR, OFFICE OF ATTORNEY RECRUITMENT AND MANAGEMENT.
DUNLAP, JAMES L | DIRECTOR, SECURITY AND EMERGENCY PLANNING STAFF.
SNELL, ROBERT | DIRECTOR, FACILITIES AND ADMINISTRATIVE SERVICES STAFF.
FELDT, DENNIS G | DIRECTOR, LIBRARY STAFF.
DAUPHIN, DENNIS E | DIRECTOR, DEBT COLLECTION MANAGEMENT STAFF.
ARNOLD, KENNETH | DIRECTOR, ASSET FORFEITURE MANAGEMENT STAFF.
PULLEN, JEFFREY | SENIOR ADVISOR FOR FINANCIAL MANAGEMENT INFORMATION TECHNOLOGY.
FUNSTON, ROBIN S | DIRECTOR, STRATEGIC PLANNING AND PERFORMANCE.
ATTUCKS, MARK | DEPUTY DIRECTOR, BUDGET STAFF, OPERATIONS AND FUNDS CONTROL.
KLEPPINGER, ERIC D | DEPUTY DIRECTOR, BUDGET STAFF, PROGRAMS AND PERFORMANCE.
ROGERS, MELINDA | DEPUTY CHIEF INFORMATION OFFICER.
MACKERT, TODD | DEPUTY STAFF DIRECTOR, CYBER SECURITY SERVICES STAFF.
BEWTRA, ANEET K | CHIEF TECHNOLOGY OFFICER.
TOSCANO JR., RICHARD A | DIRECTOR, EQUAL EMPLOYMENT OPPORTUNITY STAFF.
MCCONKEY, MILTON | SENIOR ADVISOR.
COOK, TERENCE L | SENIOR ADVISOR.
ROPER, MATTHEW | DEPUTY DIRECTOR (AUDITING), FINANCE STAFF.
CONNELLY, ROBERT L | DIRECTOR, OFFICE OF THE SMALL DISADVANTAGED BUSINESS UTILIZATION.
FORE, TODD A | DEPUTY DIRECTOR, HUMAN RESOURCES.
MCINTRYRE, PATRICK | DEPUTY DIRECTOR, SERVICE DELIVERY STAFF.
SMITH, RICHARD | CONSOLIDATED DEBT COLLECTION SYSTEM.
National Security Division—NSD
BURNS, DAVID | PRINCIPAL DEPUTY ASSISTANT ATTORNEY GENERAL.
HICKEY, ADAM | DEPUTY ASSISTANT ATTORNEY GENERAL.
ANDREWS, KELLI | CHIEF OF STAFF AND COUNSELOR.
WIEGMANN, JOHN B | DEPUTY ASSISTANT ATTORNEY GENERAL, OFFICE OF LAW AND POLICY.
TOSCAS, GEORGE Z | DEPUTY ASSISTANT ATTORNEY GENERAL, COUNTERESPIONAGE—COUNTERTERRORISM.
JAYARAM, SANCHITHA | CHIEF, FOREIGN INVESTMENT REVIEW STAFF.
DUNNE, STEVEN M | CHIEF, APPELLATE UNIT.
EVANS, STUART | DEPUTY ASSISTANT ATTORNEY GENERAL, FOREIGN INTELLIGENCE SURVEILLANCE ACT, OPERATIONS AND INTELLIGENCE OVERSIGHT.
JENKINS, MARK A | EXECUTIVE OFFICER.
KEEGAN, MICHAEL | DEPUTY CHIEF, COUNTERTERRORISM SECTION.
KENNEDY, J. LIONEL | SPECIAL COUNSEL FOR NATIONAL SECURITY.
MULLANEY, MICHAEL J | CHIEF, COUNTERTERRORISM SECTION.
O'CONNOR, KEVIN | CHIEF, OVERSIGHT SECTION.
SANZ-REXACH, GABRIEL | CHIEF, OPERATIONS SECTION.
HARDEE, CHRISTOPHER | CHIEF, POLICY—OFFICE OF LAW AND POLICY.
PALMER, DAVID | SENIOR COUNSELOR TO THE ASSISTANT ATTORNEY GENERAL.
Office of Community Oriented Policing Services—COPS
KEITH, PHILLIP | DIRECTOR.
WASHINGTON, RUSSELL C | PRINCIPAL DEPUTY DIRECTOR.
BROWN-CUTLAR, SHANETTA | SENIOR ADVISOR TO THE DIRECTOR.
Office of Information Policy—OIP
PUSTAY, MELANIE ANN | DIRECTOR.
Office of the Inspector General—OIG
BLIER, WILLIAM M | DEPUTY INSPECTOR GENERAL.
MALMSTROM, JASON R | ASSISTANT INSPECTOR GENERAL FOR AUDIT.
LEE, RENE | SENIOR COUNSEL TO THE INSPECTOR GENERAL.
O'NEILL, MICHAEL SEAN | ASSISTANT INSPECTOR GENERAL FOR OVERSIGHT AND REVIEW.
PELLETIER, NINA S | ASSISTANT INSPECTOR GENERAL FOR EVALUATION AND INSPECTIONS.
HAYES, MARK L | DEPUTY ASSISTANT INSPECTOR GENERAL FOR AUDIT.
JOHNSON, ERIC A | ASSISTANT INSPECTOR GENERAL INVESTIGATIONS.
CHAWAGA, MARGARET | DEPUTY ASSISTANT INSPECTOR GENERAL FOR INVESTIGATIONS.
PETERS, GREGORY T | ASSISTANT INSPECTOR GENERAL FOR MANAGEMENT AND PLANNING.
LOWELL, CYNTHIA | DEPUTY ASSISTANT INSPECTOR GENERAL FOR MANAGEMENT AND PLANNING.
MITZELFELD, JAMES A | SENIOR COUNSEL TO THE AIG/INV RATON, MITCH CHIEF INNOVATION OFFICER.
SUMNER, PATRICIA | SENIOR COUNSEL TO THE ASSISTANT INSPECTOR GENERAL FOR OVERSIGHT AND REVIEW.
LAVINSKY, JOHN | SENIOR COUNSEL TO THE INSPECTOR GENERAL.
Office of Justice Programs—OJP
HENNEBERG, MAUREEN A | DEPUTY ASSISTANT ATTORNEY GENERAL, OPERATIONS MANAGEMENT.
GARRY, EILEEN M | DEPUTY DIRECTOR FOR PLANNING, BUREAU OF JUSTICE ASSISTANCE.
TRAUTMAN, TRACEY | DEPUTY DIRECTOR FOR PROGRAMS, BUREAU OF JUSTICE ASSISTANCE.
FEUCHT, THOMAS E | EXECUTIVE SCIENCE ADVISOR, NATIONAL INSTITUTE OF JUSTICE.
SPIVAK, HOWARD | PRINCIPAL DEPUTY DIRECTOR, NATIONAL INSTITUTE OF JUSTICE.
MARTIN, RALPH | DIRECTOR, OFFICE OF AUDIT, ASSESSMENT, AND MANAGEMENT.
MERKLE, PHILIP | DIRECTOR, OFFICE OF ADMINISTRATION.
MADAN, RAFAEL A | GENERAL COUNSEL.
MAHONEY, KRISTEN | DEPUTY DIRECTOR, POLICY MANAGEMENT, BUREAU OF JUSTICE ASSISTANCE.
ROBERTS, MARILYN M. | DEPUTY DIRECTOR, OFFICE FOR VICTIMS OF CRIME.
MULROW, JERI | DIRECTOR, BUREAU OF JUSTICE STATISTICS.
MCGRATH, BRIAN | CHIEF INFORMATION OFFICER.
BENDA, BONNIE LEIGH | CHIEF FINANCIAL OFFICER.
ATSATT, MARILYNN B | DEPUTY CHIEF FINANCIAL OFFICER.
BECK, ALLEN J | SENIOR STATISTICIAN.
DARDEN, SILAS | DIRECTOR, OFFICE OF COMMUNICATIONS.
JONES, CHYRL | DEPUTY ADMINISTRATOR FOR PROGRAMS, OJJDP.
Office of Legal Counsel—OLC
GANNON, CURTIS | PRINCIPAL DEPUTY ASSISTANT ATTORNEY GENERAL OF LEGAL COUNSEL.
KOFFSKY, DANIEL L | DEPUTY ASSISTANT ATTORNEY GENERAL.
WHITAKER, HENRY | DEPUTY ASSISTANT ATTORNEY GENERAL.
HARDY, LIAM | DEPUTY ASSISTANT ATTORNEY GENERAL.
HARRIS, SARAH | DEPUTY ASSISTANT ATTORNEY GENERAL.
COLBORN, PAUL P | SPECIAL COUNSEL.
HART, ROSEMARY A | SPECIAL COUNSEL.
SINGDAHLSEN, JEFFREY P | SENIOR COUNSEL.
STEWART, SCOTT | COUNSEL Office of Legal Policy—OLP.
TALLEY, BRETT | SENIOR COUNSELOR.
JONES, KEVIN ROBERT | DEPUTY ASSISTANT ATTORNEY GENERAL.
THIEMANN, ROBYN L | DEPUTY ASSISTANT ATTORNEY GENERAL.
RUBINSTEIN, REED | SENIOR COUNSELOR.
FRAGOSO, MICHAEL | DEPUTY ASSISTANT ATTORNEY GENERAL.
DHILLON, UTTAM A | SENIOR COUNSELOR.
KARP, DAVID J | SENIOR COUNSEL.
EDLOW, JOSEPH | SENIOR COUNSELOR.
CHAMPOUX, MARK | PRINCIPAL DEPUTY ASSISTANT ATTORNEY GENERAL.
Office of Legislative Affairs—OLA
HANKEY, MARY BLANCHE | CHIEF OF STAFF AND ATTORNEY ADVISOR..
ESCALONA, PRIM | PRINCIPAL DEPUTY ASSISTANT ATTORNEY GENERAL.
RAMER, SAMUEL | SENIOR COUNSEL.
LASSETER, DAVID | DEPUTY ASSISTANT ATTORNEY GENERAL.
TYSON, JILL | DEPUTY ASSISTANT ATTORNEY GENERAL.
Office of Professional Responsibility—OPR
ASHTON, ROBIN | SENIOR COUNSELOR.
RAGSDALE, JEFFREY | DEPUTY COUNSEL ON PROFESSIONAL RESPONSIBILITY.
BIRNEY, WILLIAM | SENIOR ASSOCIATE COUNSEL.
MCCARTY, MARGARET | SENIOR ASSOCIATE COUNSEL.
Office of Public Affairs—PAO
ISGUR FLORES, SARAH | DIRECTOR
Office of Tribal Justice—OTJ
TOULOU, TRACY S | DIRECTOR, OFFICE OF TRIBAL JUSTICE.
Professional Responsibility Advisory Office—PRAO
LUDWIG, STACY | DIRECTOR.
Tax Division—TAX
HUBBERT, DAVID A | DEPUTY ASSISTANT ATTORNEY GENERAL.
BRUFFY, ROBERT | EXECUTIVE OFFICER.
BALLWEG, MITCHELL | COUNSELOR TO THE DEPUTY ASSISTANT ATTORNEY GENERAL FOR STRATEGIC TAX ENFORCEMENT.
WSZALEK, LARRY | CHIEF, CRIMINAL ENFORCEMENT SECTION, WESTERN REGION.
DALY, MARK | SENIOR TRIAL ATTORNEY.
DAVIS, NANETTE | SENIOR TRIAL ATTORNEY.
DONOHUE, DENNIS M | SENIOR LITIGATION COUNSEL.
PINCUS, DAVID | CHIEF, COURT OF FEDERAL CLAIMS SECTION.
GOLDBERG, STUART | SENIOR COUNSELOR TO THE ASSISTANT ATTORNEY GENERAL.
HAGLEY, JUDITH | SENIOR TRIAL ATTORNEY.
IHLO, JENNIFER | SENIOR TRIAL ATTORNEY.
CLARKE, RUSSELL SCOTT | CHIEF, CIVIL TRIAL SECTION, CENTRAL REGION.
JOHNSON, CORY | SENIOR TRIAL ATTORNEY.
KEARNS, MICHAEL J | CHIEF, CIVIL TRIAL SECTION, SOUTHERN REGION.
LARSON, KARI | SENIOR TRIAL ATTORNEY.
LINDQUIST III, JOHN A | SENIOR TRIAL ATTORNEY.
MELAND, DEBORAH | CHIEF, CIVIL TRIAL SECTION EASTERN REGION.
REID, ANN C | CHIEF, OFFICE OF REVIEW.
PAGUNI, ROSEMARY E | CHIEF, CRIMINAL ENFORCEMENT SECTION, NORTHERN REGION.
ROTHENBERG, GILBERT S | CHIEF, APPELLATE SECTION.
CLARK, THOMAS J | DEPUTY CHIEF, APPELLATE SECTION.
LYONS, ROBERT | CHIEF, CRIMINAL APPEALS AND TAX ENFORCEMENT POLICY SECTION.
SAWYER, THOMAS | SENIOR TRIAL ATTORNEY.
SERGI, JOSEPH A | SENIOR TRIAL ATTORNEY.
SHATZ, EILEEN M | SPECIAL LITIGATION COUNSEL.
SMITH, COREY J | SENIOR TRIAL ATTORNEY.
STEHLIK, NOREENE C | SENIOR TRIAL ATTORNEY.
SULLIVAN, JOHN | SENIOR TRIAL ATTORNEY.
WEAVER, JAMES E | SENIOR TRIAL ATTORNEY.
WARD, RICHARD | CHIEF, CIVIL TRIAL SECTION WESTERN REGION.
ZUCKERMAN, RICHARD | DEPUTY ASSISTANT ATTORNEY GENERAL.
GREAVES, TRAVIS | DEPUTY ASSISTANT ATTORNEY GENERAL.
U.S. Marshals Service—USMS
AUERBACH, GERALD | GENERAL COUNSEL..
BROWN, SHANNON B | ASSISTANT DIRECTOR, JPATS.
MOHAN, KATHERINE T | ASSISTANT DIRECTOR, HUMAN RESOURCES.
DRISCOLL, DERRICK | ASSOCIATE DIRECTOR, OPERATIONS.
MATHIAS, KARL | ASSISTANT DIRECTOR FOR INFORMATION TECHNOLOGY.
BOLEN, JOHN | ASSISTANT DIRECTOR, JUDICIAL SECURITY.
VIRTUE, TIMOTHY | ASSISTANT DIRECTOR, ASSET FORFEITURE.
HACKMASTER, NELSON | ASSISTANT DIRECTOR, PRISONER OPERATIONS.
DICKINSON, LISA | ATTORNEY ADVISOR.
O'BRIEN-ROGAN, CAROLE | PROCUREMENT EXECUTIVE, FINANCIAL SERVICES.
O'BRIEN, HOLLEY | CHIEF FINANCIAL OFFICER, FINANCIAL SERVICES.
O'HEARN, DONALD | ASSISTANT DIRECTOR, OFFICE OF PROFESSIONAL RESPONSIBILITY.
ANDERSON, DAVID | ASSISTANT DIRECTOR, TRAINING.
TYLER, JEFFREY | ASSISTANT DIRECTOR, INVESTIGATIVE OPERATIONS.
HICKMAN, KATE | ASSISTANT DIRECTOR, MANAGEMENT SUPPORT.
ROBINSON, ROBERTO | ASSISTANT DIRECTOR, TACTICAL OPERATIONS.
BRUNER, JARROD | SUPERVISORY IT PROGRAM MANAGER.
Community Relations Service—CRS
RATIFF, GERRI | DEPUTY DIRECTOR.
Rule of Law Office—ROL
FEATHERSTON, BRITTIAN | JUSTICE ATTACHE, AFGHANISTAN.
BASSETT, SPENCER | JUSTICE ATTACHE, BAGHDAD.

[FR Doc. 2018-23337 Filed 10-24-18; 8:45 am]

BILLING CODE 4410-CH-P